DEPARTMENT OF TRANSPORTATION

Federal Aviation Administration

14 CFR Part 39

[Docket No. 2000-NE-48-AD]

RIN 2120-AA64

Airworthiness Directives; Rolls-Royce Deutschland Ltd & Co KG (Formerly Rolls-Royce Deutschland GmbH, formerly BMW Rolls-Royce GmbH) Models BR700-710A1-10 and BR700-710A2-20 Turbofan Engines

AGENCY: Federal Aviation Administration (FAA), DOT.

ACTION: Notice of proposed rulemaking (NPRM).

SUMMARY: The FAA proposes to supersede an existing airworthiness directive (AD) for Rolls-Royce Deutschland Ltd & Co KG (RRD) (formerly Rolls-Royce Deutschland GmbH, formerly BMW Rolls-Royce GmbH) models BR700-710A1-10 and BR700-710A2-20 turbofan engines. That AD currently requires initial and repetitive visual and ultrasonic inspections of fan discs, part numbers (P/Ns) BRR18803, BRR19248, and BRR20791 for cracks, and if necessary, replacement with serviceable parts. This proposed AD would require the same inspections of these fan discs, with certain old design P/N fan blades installed. This proposed AD would extend the inspection interval for certain fan discs having new design P/N fan blades installed. Also, this proposed AD would add as optional terminating action to the repetitive inspections, installation of certain P/N new fan discs, certain P/N new fan blades, and engine fan speed (N1) Keep Out Zone software. This proposed AD results from a revised RRD service bulletin (SB) that introduces relaxed inspection intervals for certain P/N combinations of fan discs and fan blades, and introduces improved design fan discs and fan blades. We are proposing this AD to detect and prevent cracks in the fan disc that could result in an uncontained engine failure and damage to the airplane.

DATES: We must receive any comments on this proposed AD by September 6, 2005.

ADDRESSES: Use one of the following addresses to submit comments on this proposed AD:

• By mail: Federal Aviation Administration (FAA), New England Region, Office of the Regional Counsel, Attention: Rules Docket No. 2000-NE-48-AD, 12 New England Executive Park, Burlington, MA 01803-5299.

• By fax: (781) 238-7055.

• By e-mail: 9-ane-adcomment@faa.gov.

You can get the service information identified in this proposed AD from Rolls-Royce Deutschland Ltd & Co KG, Eschenweg 11, 15827 Blankenfelde-Mahlow, Germany, telephone: International Access Code 011, Country Code 49, (0) 33-7086-1768, fax: International Access Code 011, Country Code 49, (0) 33-7086-3356.

You may examine the AD docket, by appointment, at the FAA, New England Region, Office of the Regional Counsel, 12 New England Executive Park, Burlington, MA.

FOR FURTHER INFORMATION CONTACT: Jason Yang, Aerospace Engineer, Engine Certification Office, FAA, Engine and Propeller Directorate, 12 New England Executive Park, Burlington, MA 01803-5299; telephone: (781) 238-7747, fax: (781) 238-7199.

SUPPLEMENTARY INFORMATION:

Comments Invited

We invite you to submit any written relevant data, views, or arguments regarding this proposal. Send your comments to an address listed under ADDRESSES. Include “AD Docket No. 2000-NE-48-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On April 1, 2003, the FAA issued AD 2003-07-11, Amendment 39-13107 (68 FR 17727, April 11, 2003). That AD requires initial and repetitive visual and ultrasonic inspections of fan discs, P/Ns BRR18803, BRR19248, and BRR20791, for cracks, and if necessary, replacement with serviceable parts.

Actions Since AD 2003-07-11 Was Issued

Since AD 2003-07-11 was issued, RRD has reevaluated the existing repetitive inspection interval requirements, and has introduced new design fan discs and fan blades.

Relevant Service Information

We have reviewed and approved the technical contents of RRD SB No. SB-BR700-72-900229, Revision 6, dated February 23, 2005, that describes procedures for removing any dry film lubricant coating from the front face of the fan disc to improve visual inspections, and initial and repetitive inspections for cracks in fan discs. That SB also introduces the installation of a new design fan disc and new design fan blades. The Luftfahrt-Bundesamt (LBA), which is the aviation authority for Germany, classified this service bulletin as mandatory and issued AD 2000-348, Revision 6, dated March 31, 2005, in order to ensure the airworthiness of these RRD models BR700-710A1-10 turbofan engines and BR700-710A2-20 turbofan engines in Germany.

Differences Between the Proposed AD and the Service Information

Although the visual inspection requirements of RRD SB No. SB-BR700-72-900229, Revision 6, dated February 23, 2005, do not specifically define the pass or fail criteria for fan discs, this proposed AD would specifically instruct the rejection of fan discs that have visual cracks. We communicated with RRD and confirmed that the intent of the service bulletin is to require the owner or operator to default to appropriate maintenance manuals for pass or fail criteria. We subsequently reviewed the maintenance manuals and confirmed that no cracks are allowed in the fan discs.

Bilateral Agreement Information

This engine model is manufactured in Germany and is type certificated for operation in the United States under the provisions of Section 21.29 of the Federal Aviation Regulations (14 CFR 21.29) and the applicable bilateral airworthiness agreement. In keeping with this bilateral airworthiness agreement, the LBA has kept the FAA informed of the situation described above. We have examined the findings of the LBA, reviewed all available information, and determined that AD action is necessary for products of this type design that are certificated for operation in the United States.

FAA's Determination and Requirements of the Proposed AD

We have evaluated all pertinent information and identified an unsafe condition that is likely to exist or develop on other products of this same type design. Therefore, we are proposing this AD, which would require:

• For fan disc P/N BRR18803, BRR19248, BRR20791, BRR24829, BRR24829, or FW33929 installed, initial and repetitive inspections for cracks.

• As optional terminating action to the repetitive inspection requirements of the proposed AD, installation of a new fan disc P/N FW33927, new fan blades P/N FW33513 or P/N FW33980, and N1 Keep Out Zone software.

The proposed AD would require that you do the inspections using the service information described previously.

Costs of Compliance

There are about 500 RRD models BR700-710A1-10 and BR700-710A2-20 turbofan engines of the affected design in the worldwide fleet. We estimate that 400 engines installed on airplanes of U.S. registry would be affected by this proposed AD. We also estimate that it would take about 7 work hours per engine to perform the inspections, and that the average labor rate is $65 per work hour. We estimate the total labor cost for performing one inspection of the U.S. fleet to be $182,000. New design fan discs and fan blades would cost about $150,000 per engine. Based on these figures, the total cost of the proposed AD on U.S. operators is estimated to be $60,182,000. The manufacturer has stated that it may provide the new fan disc and new fan blades at no cost to operators.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2000-NE-48-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13107 (68 FR 17727, April 11, 2003) and by adding a new airworthiness directive, to read as follows:

Rolls-Royce Deutschland Ltd & Co KG (formerly Rolls-Royce Deutschland GmbH, formerly BMW Rolls-Royce GmbH): Docket No. 2000-NE-48-AD.

Comments Due Date

(a) The Federal Aviation Administration (FAA) must receive comments on this airworthiness directive (AD) action by September 6, 2005.

Affected ADs

(b) This AD supersedes AD 2003-07-11, Amendment 39-13107.

Applicability

(c) This AD applies to Rolls-Royce Deutschland Ltd & Co KG (RRD) (formerly Rolls-Royce Deutschland GmbH, formerly BMW Rolls-Royce GmbH) models BR700-710A1-10 and BR700-710A2-20 turbofan engines. These engines are installed on, but not limited to, Bombardier Inc. BD-700-1A10, BD-700-1A11, and Gulfstream Aerospace Corp. G-V series airplanes.

Unsafe Condition

(d) This AD results from a revised RRD service bulletin (SB) that introduces relaxed inspection intervals for certain P/N combinations of fan discs and fan blades, and introduces improved design fan discs and fan blades. The actions specified in this AD are intended to detect and prevent cracks in the fan disc that could result in an uncontained engine failure and damage to the airplane.

Compliance

(e) You are responsible for having the actions required by this AD performed within the compliance times specified unless the actions have already been done.

Initial Inspection

Engines With Fan Disc P/N BRR18803 or BRR19248 Installed and Fan Blades P/N BRR20677 or BRR23178 Installed

(f) For engines with fan disc P/N BRR18803 or BRR19248 installed, and fan blades P/N BRR20677 or BRR23178 installed, do the following:

(1) If the last fan disc inspection was a visual inspection performed using RRD SB No. SB-BR700-72-900229, Revision 3, dated July 12, 2001; Revision 4, dated December 20, 2001; Revision 5, dated January 8, 2003; or Revision 6, dated February 23, 2005, visually or ultrasonically inspect fan disc within 25 flight cycles-since-last inspection (CSLI). Use paragraphs A through F of the applicable Part 1 or Part 2 of the Accomplishment Instructions of RRD SB No. SB-BR700-72-900229, Revision 6, dated February 23, 2005 to do the inspection.

(2) If the last fan disc inspection was an ultrasonic inspection performed using RRD SB No. SB-BR700-72-900229, Revision 3, dated July 12, 2001; Revision 4, dated December 20, 2001; Revision 5, dated January 8, 2003; or Revision 6, dated February 23, 2005, visually or ultrasonically inspect fan disc within 75 CSLI. Use paragraphs A through F of the applicable Part 1 or Part 2 of the Accomplishment Instructions of RRD SB No. SB-BR700-72-900229, Revision 6, dated February 23, 2005 to do the inspection.

(3) For engines that have not yet been inspected, visually or ultrasonically inspect fan disc within 25 flight cycles after the effective date of this AD. Use paragraphs A through F of the applicable Part 1 or Part 2 of the Accomplishment Instructions of RRD SB No. SB-BR700-72-900229, Revision 6, dated February 23, 2005 to do the inspection.

(4) If any cracks are found, remove the disc from service and replace with a serviceable disc.

Engines With Fan Disc P/N BRR20791 Installed, and Fan Blades P/N BRR20677 or BRR23178 Installed

(g) For BR700-710A1-10 engines with serial numbers (SNs) 11452 and lower, and BR700-710A2-20 engines with SNs 12352 and lower, with fan disc P/N BRR20791 installed, and fan blades P/N BRR20677 or BRR23178 installed, do the following:

(1) If the last fan disc inspection was a visual inspection performed using RRD SB No. SB-BR700-72-900229, Revision 3, dated July 12, 2001; Revision 4, dated December 20, 2001; Revision 5, dated January 8, 2003; or Revision 6, dated February 23, 2005, visually or ultrasonically inspect fan disc within 25 CSLI. Use paragraphs A through F of the applicable Part 1 or Part 2 of the Accomplishment Instructions of RRD SB No. SB-BR700-72-900229, Revision 6, dated February 23, 2005 to do the inspection.

(2) If the last fan disc inspection was an ultrasonic inspection performed using RRD SB No. SB-BR700-72-900229, Revision 3, dated July 12, 2001; Revision 4, dated December 20, 2001; Revision 5, dated January 8, 2003; or Revision 6, dated February 23, 2005, visually or ultrasonically inspect fan disc within 150 CSLI. Use paragraphs A through F of the applicable Part 1 or Part 2 of the Accomplishment Instructions of RRD SB No. SB-BR700-72-900229, Revision 6, dated February 23, 2005 to do the inspection.

(3) For engines that have not yet been inspected, visually or ultrasonically inspect fan disc within 25 flight cycles after the effective date of this AD. Use paragraphs A through F of the applicable Part 1 or Part 2 of the Accomplishment Instructions of RRD SB No. SB-BR700-72-900229, Revision 6, dated February 23, 2005 to do the inspection.

(4) If any cracks are found, remove the disc from service and replace with a serviceable disc.

(h) For BR700-710A1-10 engines with SNs 11453 and higher, and BR700-710A2-20 engines with SNs 12353 and higher with fan discs P/N BRR20791 installed, do the following:

(1) Visually or ultrasonically inspect fan discs within 150 flight cycles-since-new (CSN). Use paragraphs A through F of the applicable Part 1 or Part 2 of the Accomplishment Instructions of RRD SB No. SB-BR700-72-900229, Revision 5, dated January 8, 2003; or Revision 6, dated February 23, 2005 to do the inspection.

(2) If any cracks are found, remove the disc from service and replace with a serviceable disc.

Repetitive Inspections

(i) Except for engines listed in paragraph (j) of this AD, perform repetitive inspections using the criteria in paragraphs (f) through (g)(4), and (k) of this AD.

(j) For BR700-710A1-10 engines with SNs 11453 and higher, and BR700-710A2-20 engines with SNs 12353 and higher with fan discs P/N BRR20791 installed, perform repetitive inspections using the criteria in paragraphs (g)(1), (g)(2), (g)(4), and (k) of this AD.

(k) For fan discs P/Ns BRR18803, BRR19248, and BRR20791, with fan blades P/N BRR20677 or BRR23178 installed, do the following:

(1) Perform a visual and ultrasonic inspection before accumulating 500 hours-since-new. Use paragraphs A through F of the applicable Part 1 or Part 2 of the Accomplishment Instructions of RRD SB No. SB-BR700-72-900229, Revision 5, dated January 8, 2003, or Revision 6, dated February 23, 2005 to do the inspection.

(2) Thereafter, perform a visual and an ultrasonic inspection before accumulating 500 hours since the last visual or ultrasonic inspection.

Engines With Fan Disc P/N BRR20791 Installed, and Fan Blades P/N FW33513, FW33980, FW33925, FW34114, or FW34776 Installed

(1) For engines with fan disc P/N BRR20791, BRR24829, or FW33929 installed, and fan blades P/N FW33513, FW33980, FW33925, FW34114, or FW34776 installed, do the following:

Initial Inspection

(1) Perform a visual and ultrasonic inspection of the fan disc at time of installation of new fan blades P/N FW33513, FW33980, FW33925, FW34114, or FW34776. Use paragraphs A through F of the applicable Part 1 or Part 2 of the Accomplishment Instructions of RRD SB No. SB-BR700-72-900229, Revision 6, dated February 23, 2005 to do the inspection.

(2) If any cracks are found, remove the disc from service and replace with a serviceable disc.

Repetitive Inspections

(3) Perform a visual and ultrasonic inspection of the fan disc within 375 flight CSLI or 600 flight hours since-last-inspection, whichever occurs first. Use paragraphs A through F of the applicable Part 1 or Part 2 of the Accomplishment Instructions of RRD SB No. SB-BR700-72-900229, Revision 6, dated February 23, 2005 to do the inspection; and

(4) Repeat the fan disc visual and ultrasonic inspection within 750 flight CSLI or 1,100 flight hours since-last-inspection, whichever occurs first. Use paragraphs A through F of the applicable Part 1 or Part 2 of the Accomplishment Instructions of RRD SB No. SB-BR700-72-900229, Revision 6, dated February 23, 2005 to do the inspection; and

(5) Thereafter, perform repetitive visual and ultrasonic inspections of the fan disc within every 1,500 flight CSLI or 2,200 flight hours since-last-inspection, whichever occurs first. Use paragraphs A through F of the applicable Part 1 or Part 2 of the Accomplishment Instructions of RRD SB No. SB-BR700-72-900229, Revision 6, dated February 23, 2005 to do the inspection.

(6) If any cracks are found, remove disc from service and replace with a serviceable disc.

Optional Terminating Action

(m) Installation of a new fan disc P/N FW33927, new fan blades,P/N FW33513, or P/N FW33980, and N1 Keep Out Zone software with EEC P/Ns 1501KDC02-010, or 1501KDC03-010, or 1501KDC05-010, or 1520KDC05-010, or 1520KDC05R-010, or 1520KDC07-010, or 1520KDC08-010, is optional terminating action to the repetitive inspections required by this AD.

Inspection Reporting Requirements

(n) Report defects in accordance with the applicable Part 1 or Part 2 of RRD SB No. SB-BR700-900229, Revision 5, dated January 8, 2003. Reporting requirements have been approved by the Office of Management and Budget (OMB) and assigned OMB control number 2120-0056.

Alternative Methods of Compliance

(o) The Manager, Engine Certification Office, has the authority to approve alternative methods of compliance for this AD if requested using the procedures found in 14 CFR 39.19.

Related Information

(p) LBA airworthiness directive 2000-348, Revision 6, dated March 31, 2005, also addresses the subject of this AD.

Issued in Burlington, Massachusetts, on June 28, 2005.
Diane S. Romanosky,
Acting Manager, Engine and Propeller Directorate, Aircraft Certification Service.

[FR Doc. 05-13135 Filed 7-1-05; 8:45 am]

BILLING CODE 4910-13-P